DEPARTMENT OF THE INTERIOR

Geological Survey

[Docket No. USGS-2025-0015; OMB Control Number 1028-0085/Renewal; GX21EB00A181100]

Agency Information Collection Activities; National Land Remote Sensing Education, Outreach and Research Activity

AGENCY: U.S. Geological Survey, Interior.

ACTION: Notice of Information Collection; request for comment.

SUMMARY: In accordance with the Paperwork Reduction Act (PRA) of 1995, the U.S. Geological Survey (USGS, we) is proposing to renew an information collection.

DATES: Interested persons are invited to submit comments on or before October 14, 2025.

ADDRESSES: You may submit comments by one of the following methods:

Online: https://www.regulations.gov. Search for and submit comments on Docket No. USGS-2025-0015.

U.S. Mail: USGS, Information Collections Clearance Officer, 12201 Sunrise Valley Drive, MS 159, Reston, VA 20192.

FOR FURTHER INFORMATION CONTACT: Curtis Watts by email at cwatts@usgs.gov, or by telephone at 703-648-7819. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA of 1995 (44 U.S.C. 3501 et seq.) and 5 CFR 1320.8(d)(1), as part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this information collection request (ICR). Before including your address, phone number, email address, or other personally identifiable information (PII) in your comment, you should be aware that your entire comment—including your PII—may be made publicly available at any time. While you can ask us in your comment to withhold your PII from public review, we cannot guarantee that we will be able to do so.

Abstract: The National Land Remote Sensing Education, Outreach and Research Activity involves the development of a U.S. national consortium in building the capability to receive, process, and archive remotely sensed data for the purpose of providing access to university and State organizations in a ready-to-use format. It also involves expanding the science of remote sensing through education, research/applications development, and outreach in areas such as environmental monitoring (including the effects of climate variability on water availability), phenology, natural resource management, and disaster analysis.

Respondents submit proposals to acquire funding for a U.S. national program to promote the uses of space-based land remote sensing data and technologies through education and outreach at the State and local level and through university-based and collaborative research projects. Respondents provide sufficient and relevant information to help decision makers evaluate and select proposals for funding. A panel of USGS managers and scientists will review each proposal to evaluate technical merit, requirements, and compatibility with the priorities identified in the call for proposals.

This notice concerns the collection of information that is sufficient and relevant to evaluate and select proposals for funding. We will protect information from respondents considered proprietary under the Freedom of Information Act (5 U.S.C. 552) and its implementing regulations (43 CFR part 2) and under regulations at 30 CFR 250.197, “Data and information to be made available to the public or for limited inspection.” Responses are voluntary. No questions of a “sensitive” nature are asked. We intend to release the project abstracts and primary investigators for awarded/funded projects only.

Title of Collection: “National Land Remote Sensing Education, Outreach and Research Activity.”

OMB Control Number: 1028-0085.

Form Number: None.

Type of Review: Extension of a currently approved collection.

Respondents/Affected Public: Public or private institutions of higher education including universities; State and local governments (including county, city township, or special district governments); independent school districts; Native American Tribal governments or organizations; and nonprofit organizations (with or without 501(c)(3) status).

Total Estimated Number of Annual Respondents: Approximately 5 respondents.

Total Estimated Number of Annual Responses: Approximately 5 responses or applications.

Estimated Completion Time per Response: We expect to receive approximately 5 applications per year, taking each applicant approximately 24 hours to complete, totaling 120 burden hours. We anticipate awarding one grant per year. The grantee will be required to submit an interim annual progress report to the designated USGS project officer within 90 days of the end of the project period and a final report on or before 90-business days after the expiration of the agreement.

Total Estimated Number of Annual Burden Hours: 120 hours per year.

Respondent's Obligation: Required to obtain a benefit.

Frequency of Collection: Annually.

Total Estimated Annual Nonhour Burden Cost: There are no “non-hour-cost” burdens associated with this ICR.

An agency may not conduct or sponsor, nor is a person required to respond to a collection of information unless it displays a currently valid OMB control number.

The authority for this action is the Paperwork Reduction Act of 1995 (44 U.S.C. 3501 et seq.).

Curtis Watts,
Intelligence Operations Specialist, USGS Core Science Systems.

[FR Doc. 2025-15309 Filed 8-11-25; 8:45 am]

BILLING CODE 4338-11-P